Proclamation 8830 of May 25, 2012

National Hurricane Preparedness Week, 2012

By the President of the United States of America

A Proclamation

Every year, hurricanes put communities at risk of catastrophic damage from storm surges, flooding, high winds, and tornadoes. During National Hurricane Preparedness Week, we rededicate ourselves to preventing loss of life and damage to property by raising awareness about hurricane hazards and taking action to protect our families, our homes, and our neighborhoods.

My Administration is working hand-in-hand with communities and State and local officials to take necessary steps to prepare before storms strike. With the National Oceanic and Atmospheric Administration’s National Hurricane Center, we continue to advance accurate tropical storm forecasting that gives individuals more time to get out of harm’s way. And through the Federal Emergency Management Agency, we are collaborating with partners across all levels of government and throughout the private and non-profit sectors to develop robust systems for disaster preparedness, response, and recovery. By engaging voices not only at the State and national levels, but also within neighborhoods, we empower communities across America to identify their unique needs and existing resources that may be used to address them.

A community-based approach to emergency management begins with an informed public. This week, I encourage all Americans living in areas that could be impacted by a hurricane to prepare by creating an emergency supply kit, learning evacuation routes, and developing a family communications plan to help ensure loved ones can find one another before and after a severe storm. If a hurricane is approaching, take shelter immediately, follow the directions of State and local officials, and evacuate if instructed. To learn more and find additional resources on how to prepare for and respond to severe weather, visit www.Ready.gov and www.Weather.gov.

As we mark the beginning of hurricane season, let us recommit to ensuring the safety of our loved ones and our communities, and to building a stronger, more resilient Nation.

NOW, THEREFORE, I, BARACK OBAMA, President of the United States of America, by virtue of the authority vested in me by the Constitution and the laws of the United States, do hereby proclaim May 27 through June 2, 2012, as National Hurricane Preparedness Week. I call upon government agencies, private organizations, schools, media, and residents in the coastal areas of our Nation to share information about hurricane preparedness and response to help save lives and protect communities.

IN WITNESS WHEREOF, I have hereunto set my hand this twenty-fifth day of May, in the year of our Lord two thousand twelve, and of the Independence of the United States of America the two hundred and thirty-sixth.

[FR Doc. 2012-13515

Filed 5-31-12; 11:15 am]

Billing code 3295-F2-P